DEPARTMENT OF ENERGY

Federal Energy Regulatory Commission

Combined Notice of Filings #2

Take notice that the Commission received the following electric rate filings:

Docket Numbers: ER13-298-001.

Applicants: New York Independent System Operator, Inc.

Description: NYISO compliance filing re: Ancillary Services Mitigation step increase to be effective 9/25/2013.

Filed Date: 9/5/13.

Accession Number: 20130905-5229.

Comments Due: 5 p.m. ET 9/26/13.

Docket Numbers: ER13-1346-000.

Applicants: Mesa Wind Power Corporation.

Description: Mesa Wind Refund Report to be effective 9/4/2013.

Filed Date: 9/5/13.

Accession Number: 20130905-5173.

Comments Due: 5 p.m. ET 9/26/13.

Docket Numbers: ER13-2277-000.

Applicants: Avista Corporation.

Description: Avista Corp FERC Rate Schedule No. 184 to be effective 10/1/2013.

Filed Date: 8/29/13.

Accession Number: 20130829-5000.

Comments Due: 5 p.m. ET 9/19/13.

Docket Numbers: ER13-2322-000.

Applicants: Duke Energy Progress, Inc.

Description: MBR Name Change to be effective 10/25/2013.

Filed Date: 9/5/13.

Accession Number: 20130905-5105.

Comments Due: 5 p.m. ET 9/26/13.

Docket Numbers: ER13-2323-000.

Applicants: Duke Energy Progress, Inc.

Description: Cancellation of Duke Energy Progress' MBR Tariff database to be effective 11/4/2013.

Filed Date: 9/5/13.

Accession Number: 20130905-5109.

Comments Due: 5 p.m. ET 9/26/13.

Docket Numbers: ER13-2324-000.

Applicants: Southern California Edison Company.

Description: GIA and Distribution Service Agmt with AP North Lake Solar LP to be effective 9/6/2013.

Filed Date: 9/5/13.

Accession Number: 20130905-5136.

Comments Due: 5 p.m. ET 9/26/13.

Docket Numbers: ER13-2325-000.

Applicants: CES Placerita, Incorporated.

Description: Change in Status Filing to be effective 9/30/2013.

Filed Date: 9/5/13.

Accession Number: 20130905-5165.

Comments Due: 5 p.m. ET 9/26/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 5, 2013.
Nathaniel J. Davis, Sr.,
Deputy Secretary.

[FR Doc. 2013-22198 Filed 9-11-13; 8:45 am].

BILLING CODE 6717-01-P